DEPARTMENT OF VETERANS AFFAIRS

Privacy Act of 1974

AGENCY: Department of Veterans Affairs (VA).

ACTION: Notice of establishment of a new system of records.

SUMMARY: The Privacy Act of 1974, 5 U.S.C. 552(e)(4), requires that all agencies publish in the Federal Register a notice of the existence and character of their systems of records. Notice is hereby given that the Department of Veterans Affairs (VA) is establishing a new system of records entitled “Automated Safety Incident Surveillance and Tracking System-VA” (99VA13).

DATES: Comments on the establishment of this new system of records must be received no later than April 30, 2009. If no public comment is received, the new system will become effective April 30, 2009.

ADDRESSES: Written comments may be submitted through http://www.Regulations.gov; by mail or hand-delivery to the Director, Regulations Management (02REG), Department of Veterans Affairs, 810 Vermont Ave., NW., Room 1068, Washington, DC 20420; or by fax to (202) 273-9026. Copies of comments received will be available for public inspection in the Office of Regulation Policy and Management, Room 1063B, between the hours of 8 a.m. and 4:30 p.m. Monday through Friday (except holidays). Please call (202) 461-4902 for an appointment. In addition, during the comment period, comments may be viewed Online through the Federal Docket Management System (FDMS).

FOR FURTHER INFORMATION CONTACT: Veterans Health Administration (VHA ) Privacy Officer, Department of Veterans Affairs, 810 Vermont Avenue, NW., Washington, DC, 20420, telephone (704) 245-2492.

SUPPLEMENTARY INFORMATION: In accordance with the Privacy Act of 1974 (5 U.S.C. 552a(e)(4)), the Department of Veterans Affairs (VA) published a notice of a new system of records entitled “Automated Safety Incident Surveillance and Tracking System-VA” (99VA13) (ASISTS). 71 FR 62347 (Oct. 24, 2006). If no comments were received during the 30-day comment period, the system of records was to be effective on November 24, 2006. Due to comments that were received and indication that additional comments may be submitted, notice was provided that the system of records would not be effective until October 9, 2007. 71 FR 67957 (Nov. 24, 2006); 72 FR 17631 (Apr. 9, 2007). Due to comments received during that time, VA has revised the system notice and republishing the notice in its entirety.

I. Description of Proposed Systems of Records

The Automated Safety Incident Surveillance and Tracking System (ASISTS) is a bifurcated information system used to manage work-related injuries and illnesses by identifying, characterizing, and tracking occupational injuries and illnesses and the progress of injured or ill current and former employees, trainees, contractors, subcontractors, volunteers, and other individuals working with or performing services for VA. In limited circumstances, when such an individual chooses to file a workers' compensation claim with the Department of Labor (DoL), data required to file the claim is entered into the claim form that is then submitted to DoL. For the purpose of this system of records, current and former employees, trainees, contractors, subcontractors, volunteers, and other individuals working with or performing services for VA are characterized collectively as employees.

With respect to occupational safety, information regarding a workplace injury or illness, including the description of the incident, any correction action taken, results of any investigation, and recommendations for employees' safety and health, is entered into ASISTS by the supervisor of an injured or ill employee and the health and safety personnel of the facility. These records are used to identify specific incidents of work-related injuries and illnesses; track and evaluate services and medical care of injured or ill workers; and determine emerging causes, clusters of incidents, and outbreaks. In addition, VA uses the information to identify system-wide problems and opportunities for focused education; evaluate through statistical analysis the effectiveness health and safety systems; develop and manage the planning, distribution, and utilization of resources; and support further research in the area of occupational medicine. Some of this data is then compiled for reporting to the Occupational Safety and Health Administration (OSHA) of the Department of Labor (DoL), in accordance with the 29 CFR part 1960. Further, the records may be used by institutional members of an accident review board or an incident review board, a multidisciplinary group of health and safety professionals and representatives from human resources, safety, occupational health, and unions/labor representatives and infection control to determine root causes of injuries and illnesses; and by VA hospitals and regional offices, VA Central Office, and the VA Office of Inspector General (OIG) for audits, reviews, and investigations of such events.

Where one of the injured or ill employees whose information is captured in the system chooses to file a workers' compensation claim under the Federal Employee Compensation Act (FECA), 5 U.S.C. 8101 et seq., ASISTS provides a mechanism for electronic transmission of claims to the DoL Office of Workers' Compensation Programs (OWCP). For those employees who do not file workers' compensation claims for their injuries or illnesses, no records pertaining to them exist in this portion of ASISTS. ASISTS is a bifurcated system that is protected by access control: authentication of users and authorization of those users' access and actions only in accordance with their permission levels. Information entered into claim forms is maintained and accessed separately from the rest of the system. Further, that data is entered by only the employee, his or her supervisor, and the workers' compensation personnel of the facility, and no other individual has access to those records.

Although this system facilitates the filing of workers' compensation claims, information used only to complete claims under the FECA, including the employee's own description of the incident, is not part of this system of records. ASISTS does not contain, in whole or in part, any exact duplicates or identical copies of FECA claim records. Rather, the official workers' compensation claim file is part of OWCP's government-wide system of records entitled Office of Workers' Compensation Programs, Federal Employees' Compensation Act Files (DOL/GOVT-1) and is not covered by this system. To the extent that any data in ASISTS is derived from FECA claim forms, that information will be treated as DOL/GOVT-1 records and disclosed only in accordance with the routine uses in that system.

II. Proposed Routine Use Disclosures of Data in the System

VA proposes to establish the following routine use disclosures of information that will be maintained in the system:

1. VA may disclose on its own initiative any information in this system, except the names and addresses of veterans and their dependents, which is relevant to a suspected or reasonably imminent violation of law, whether civil, criminal, or regulatory in nature and whether arising by general or program statute or by regulation, rule, or order issued pursuant thereto, to a Federal, state, local, or foreign agency charged with the responsibility of investigating or prosecuting such violation, or charged with enforcing or implementing the statute, regulation, rule, or order. VA may also disclose on its own initiative the names and addresses of veterans and their dependents to a Federal agency charged with the responsibility of investigating or prosecuting civil, criminal, or regulatory violations of law, or charged with enforcing or implementing the statute, regulation, rule, or order.

VA must be able to disclose information within its possession on its own initiative that pertains to a violation of law to the appropriate authorities in order for them to investigate and enforce those laws. VA may disclose the names and home addresses of veterans and their dependents only to Federal entities with law enforcement responsibilities under 38 U.S.C. 5701(a) and (f). Accordingly, VA has so limited this routine use.

2. VA may disclose information to a Congressional office from the record of an individual in response to an inquiry from the Congressional office made on behalf of and at the request of that individual.

Individuals sometimes request the help of a Member of Congress in resolving some issue relating to a matter before VA. When the Member of Congress writes VA, VA must be able to provide sufficient information to be responsive to the inquiry. This routine use is consistent with guidance from the Office of Management and Budget (OMB), issued on October 3, 1974, that directed all Federal agencies to insert this language in their systems of records. (http://www.whitehouse.gov/omb/inforeg/lynn1975.pdf).

3. VA may disclose information to the National Archives and Records Administration (NARA) in records disposition and management inspections conducted under authority of Title 44 of United States Code.

NARA is responsible for archiving old records no longer actively used but which may be appropriate for preservation and for the physical maintenance of the Federal government's records. VA must be able to turn records over to NARA in order to determine the proper disposition of such records.

4. VA may disclose information in this system of records to the Department of Justice (DOJ), either on VA's initiative or in response to DOJ's request for the information, after either VA or DOJ determines that such information is relevant to DOJ's representation of the United States or any of its components in legal proceedings before a court or adjudicative body, provided that, in each case, the agency also determines prior to disclosure that disclosure of the records to the Department of Justice is a use of the information contained in the records that is compatible with the purpose for which VA collected the records. VA, on its own initiative, may disclose records in this system of records in legal proceedings before a court or administrative body after determining that the disclosure of the records to the court or administrative body is a use of the information contained in the records that is compatible with the purpose for which VA collected the records.

When VA is involved in litigation or an adjudicative or administrative process, or occasionally when another party is involved in litigation or an adjudicative or administrative process, and VA policies or operations could be affected by the outcome of the litigation or process, VA must be able to disclose information to the court, the adjudicative or administrative body, or the parties involved. A determination would be made in each instance that, under the circumstances involved, the purpose served by use of the information in the particular litigation or process is compatible with the purpose for which VA collected the information. This routine use is consistent with OMB guidance issued on May 24, 1985, directing all Federal agencies to promulgate such a routine use (http://www.whitehouse.gov/omb/inforeg/guidance1985.pdf).

5. VA may disclose information for program review purposes and the seeking of accreditation and/or certification to survey teams of the Joint Commission on Accreditation of Healthcare Organizations (JCAHO), College of American Pathologists, American Association of Blood Banks, and similar national accreditation agencies or boards with which VA has a contract or agreement to conduct such reviews, but only to the extent that the information is necessary and relevant to the review.

VA health care facilities undergo certification and accreditation by several national accreditation agencies or boards to comply with regulations and good medical practices. VA must be able to disclose information for program review purposes and the seeking of accreditation and/or certification of health care facilities and programs.

6. VA may disclose information to officials of the Merit Systems Protection Board (MSPB) and the Office of the Special Counsel when requested in connection with appeals, special studies of the civil service and other merit systems, review of rules and regulations, investigation of alleged or possible prohibited personnel practices, and such other functions, promulgated in 5 U.S.C. 1205 and 1206, or as may be authorized by law.

VA must be able to disclose information to the MSPB to assist it in fulfilling its responsibilities regarding Federal employees, in accordance with Congressional intent reflected in that agency's enabling statutes. Moreover, VA minimizes the release of individually identifiable information to another Federal agency and limits the disclosure to anonymous data where such information is sufficient for that agency to accomplish its statutory purpose.

7. VA may disclose information to the Equal Employment Opportunity Commission (EEOC) when requested in connection with investigations of alleged or possible discrimination practices, examination of Federal affirmative employment programs, compliance with the Uniform Guidelines of Employee Selection Procedures, or other functions vested in the Commission by the President's Reorganization Plan No. 1 of 1978.

VA must be able to disclose information to the EEOC to assist it in fulfilling its responsibilities to protect employee rights.

8. VA may disclose to the Federal Labor Relations Authority (FLRA), including its General Counsel, information related to the establishment of jurisdiction, the investigation and resolution of allegations of unfair labor practices, or information in connection with the resolution of exceptions to arbitrator awards when a question of material fact is raised, in matters before the Federal Service Impasses Panel, and to investigate representation petitions and conduct or supervise representation elections.

VA must be able to disclose information to the FLRA to comply with the statutory mandate under which FLRA operates.

9. VA may disclose information to individuals, organizations, private or public agencies, or other entities with which VA has a contract or agreement, or where there is a subcontract to perform such services as VA may deem practicable for the purposes of laws administered by VA, in order for the contractor or subcontractor to perform the services of the contract or agreement.

This routine use, which also applies to agreements that do not qualify as contracts defined by Federal procurement laws and regulations, is consistent with OMB guidance in OMB Circular A-130, App. I, paragraph 5a(1)(b) that agencies promulgate routine uses to address disclosure of Privacy Act-protected information to contractors in order to perform the services contracts for the agency. VA must be able to provide information to contractors or subcontractors with which VA has a contract or agreement in order to perform the services of the contract or agreement. In these situations, safeguards are provided in the contract prohibiting the contractor or subcontractor from using or disclosing the information for any purpose other than that described in the contract.

10. VA may disclose information to labor unions operating at the facility level as members of institutional review boards, also known as accident review boards, to review root causes of injuries.

VA must be able to use and disclose the information to allow the facility and labor unions to review and recommend corrective measures for injury prevention.

11. VA may disclose information to the Department of Labor for the electronic filing of workers compensation claims, as provided by the Federal Employee Compensation Act, 5 U.S.C. 8121.

VA must be able to provide information regarding particular workplace injuries and illnesses to the Department of Labor for it to adjudicate claims for workers' compensation filed by injured or ill VA employees.

12. VA may, on its own initiative, disclose any information or records to appropriate agencies, entities, and persons when (1) VA suspects or has confirmed that the integrity or confidentiality of information in the system of records has been compromised; (2) the Department has determined that as a result of the suspected or confirmed compromise there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm.

This routine use permits disclosure that is required by the Memorandum from the Office of Management and Budget (M-07-16), dated May 22, 2007, of all systems of records of all Federal agencies. Further, the disclosure allows VA to respond to a suspected or confirmed data breach, including the conduct of any risk analysis or provision of credit protection services as provided in 38 U.S.C. 5724, as the terms are defined in 38 U.S.C. 5727.

13. Disclosure to other Federal agencies may be made to assist such agencies in preventing and detecting possible fraud or abuse by individuals in their operations and programs.

This routine use permits disclosures by the Department to report a suspected incident of identity theft and provide information and/or documentation related to or in support of the reported incident.

III. Compatibility of the Proposed Routine Uses

The Privacy Act permits VA to disclose information about individuals without their consent for a routine use when the information will be used for a purpose that is compatible with the purpose for which VA collected the information. In the routine use disclosures described above, except those governed by DOL/GOVT-1, either the recipient of the information will use the information in connection with a matter relating to one of VA's programs or to provide a benefit to VA, or disclosure is required by law.

The notice of intent to publish an advance copy of the system notice have been sent to the appropriate Congressional committees and to the Director of the Office of Management and Budget (OMB) as required by the Privacy Act, 5 U.S.C. 552a(r), and guidelines issued by OMB, 65 FR 77677, December 12, 2000.

Approved: February 26, 2009.
John R. Gingrich,
Chief of Staff, Department of Veterans Affairs.

99VA13

SECURITY CLASSIFICATION:

None.

SYSTEM NAME:

Automated Safety Incident Surveillance and Tracking System—VA.

SYSTEM LOCATION:

Records are maintained at each Department of Veterans Affairs (VA) health care facility with back-up computer tape information being stored at off-site locations in most cases. The national database where ASISTS resides is located at the Austin Automation Center. Address locations for VA facilities are listed in VA Appendix 1 of the biennial publication of the VA system of records. In addition, records may be maintained at the Department of Veterans Affairs, 810 Vermont Avenue, NW., Washington, DC; VA Data Processing Centers; VA OI Field Offices; Veterans Integrated Service Network Offices; and Employee Education Systems.

CATEGORIES OF INDIVIDUALS COVERED BY THE SYSTEM:

The records include information concerning current and former employees, trainees, contractors, subcontractors, volunteers, and other individuals working with or performing services for VA. For the purpose of this system of records, these individuals are characterized collectively as employees.

CATEGORIES OF RECORDS IN THE SYSTEM:

The records in this system include:

1. Personal identifiers, including the injured or ill employee's name, date of birth, age, sex, and social security number;

2. Residential and professional contact data, including home and/or mailing address, home telephone number, emergency contact information, personnel status, and duty station;

3. Employment information, including personnel status, occupation, grade and step, date of hire, and station number;

4. Information about injuries and illnesses attributed to work, including the location of injury, cause, severity, type of injury, body parts affected, risk, and contributing factors;

5. Information from reviews and investigation of incidents conducted by the employee's supervisor and the safety personnel of that facility, including any corrective actions taken by the supervisor and the findings of the health and safety officer;

6. Abstract information, including environmental and epidemiological registries, studies of effectiveness health and safety systems, and further research in the area of occupational medicine.

7. Information required for reporting to the Occupational Safety and Health Administration (OSHA) of the Department of Labor (DoL), including the name of the treating physician or other health care professional, hospitalization, medical treatment, medication, safety device; and

8. Information required for filing a workers' compensation claim with the DoL Office of Workers' Compensation Programs (OWCP) under the Federal Employee Compensation Act (FECA), 5 U.S.C. 8101 et seq.

ASISTS does not contain, in whole or in part, workers' compensation claim forms filed under the FECA, any duplicates or copies of such documents, or any information that is derived from claim records.

AUTHORITY FOR MAINTENANCE OF THE SYSTEM:

5 U.S.C. Chapters 11, 31, 33, 43, 61, 63, and 83; 38 U.S.C. 501; 38 U.S.C. Chapter 74.

PURPOSE(S):

The records will be used to identify specific cases of work-related injuries and illnesses; track and evaluate medical care of and services provided to injured or ill workers, and determine emerging causes, clusters of incidents, and outbreaks. The records will also be used to identify system-wide problems and opportunities for focused education and intervention; evaluate the effectiveness of health and safety systems performance, especially after interventions, through statistical analysis; to develop and manage the planning, distribution, and utilization of resources; and support further research in the area of occupational medicine. The data may also be used for the review of root causes of injuries and for audits, reviews, and investigations of incidents involving workplace injuries and illnesses. Data may be accessed locally and at the VISN level through ASISTS directly or through presentation modes on the VISN Support Service Center (in anonymized form such as through a Proclarity Data Cube), Users include the following: Nationally data may be accessed through the rolled-up master file and data use agreements with the System of Records owner that address confidentiality requirements under the Privacy Act.

At the facility level: safety and industrial hygiene, engineering, human resources and workers compensation, occupational health, union, supervisory, and management staff.

At the VISN level: VISN safety and workers compensation staff and human resources staff.

At the national level: occupational health, safety, workers compensation, human resources, and engineering staff.

Where an injured or ill employee chooses to file a workers' compensation claim under the Federal Employee Compensation Act (FECA), 5 U.S.C. § 8101 et seq., ASISTS provides a mechanism for electronic transmission of claims to DoL. Certain information in the system, including the employee's own description of the injury or illness, populates the claim form. The completed claim form, which is not a part of ASISTS, is then submitted to OWCP.

ROUTINE USES OF RECORDS MAINTAINED IN THE SYSTEM, INCLUDING CATEGORIES OF USERS AND THE PURPOSES OF SUCH USES:

Although certain information in ASISTS populates workers' compensation claim forms, the official workers' compensation claim file is part of OWCP's government-wide system of records entitled Office of Workers' Compensation Programs, Federal Employees' Compensation Act Files (DOL/GOVT-1) and is not covered by this system. Any data in ASISTS that is used solely to populate FECA claim forms, such as the employee's own description of the incident, will be treated as DOL/GOVT-1 records and disclosed only in accordance with DOL's interpretation of the DOL/GOVT-1 routine uses.

1. VA may disclose on its own initiative any information in this system, except the names and addresses of veterans and their dependents, which is relevant to a suspected or reasonably imminent violation of law, whether civil, criminal, or regulatory in nature and whether arising by general or program statute or by regulation, rule, or order issued pursuant thereto, a Federal, state, local, or foreign agency charged with the responsibility of investigating or prosecuting such violation, or charged with enforcing or implementing the statute, regulation, rule, or order. VA may also disclose on its own initiative the names and addresses of veterans and their dependents to a Federal agency charged with the responsibility of investigating or prosecuting civil, criminal, or regulatory violations of law, or charged with enforcing or implementing the statute, regulation, rule, or order.

2. VA may disclose information to a Congressional office from the record of an individual in response to an inquiry from the Congressional office on behalf of and at the request of that individual.

3. VA may disclose information to the National Archives and Records Administration (NARA) in records disposition and management inspections conducted under authority of Title 44 of United States Code.

4. VA may disclose information in this system of records to the Department of Justice (DOJ), either on VA's initiative or in response to DOJ's request for the information, after either VA or DOJ determines that such information is relevant to DOJ's representation of the United States or any of its components in legal proceedings before a court or adjudicative body, provided that, in each case, the agency also determines prior to disclosure that disclosure of the records to the Department of Justice is a use of the information contained in the records that is compatible with the purpose for which VA collected the records. VA, on its own initiative, may disclose records in this system of records in legal proceedings before a court or administrative body after determining that the disclosure of the records to the court or administrative body is a use of the information contained in the records that is compatible with the purpose for which VA collected the records.

5. VA may disclose information for program review purposes and the seeking of accreditation and/or certification to survey teams of the Joint Commission on Accreditation of Healthcare Organizations (JCAHO), College of American Pathologists, American Association of Blood Banks, and similar national accreditation agencies or boards with which VA has a contract or agreement to conduct such reviews, but only to the extent that the information is necessary and relevant to the review.

6. VA may disclose information to officials of the Merit Systems Protection Board (MSPB) and the Office of the Special Counsel when requested in connection with appeals, special studies of the civil service and other merit systems, review of rules and regulations, investigation of alleged or possible prohibited personnel practices, and such other functions promulgated in 5 U.S.C. §§ 1205 and 1206, or as may be authorized by law.

7. VA may disclose information to the Equal Employment Opportunity Commission (EEOC) when requested in connection with investigations of alleged or possible discrimination practices, examination of Federal affirmative employment programs, compliance with the Uniform Guidelines of Employee Selection Procedures, or other functions vested in the Commission by the President's Reorganization Plan No. 1 of 1978.

8. VA may disclose to the Federal Labor Relations Authority (FLRA), including its General Counsel, information related to the establishment of jurisdiction, the investigation and resolution of allegations of unfair labor practices, or information in connection with the resolution of exceptions to arbitrator awards when a question of material fact is raised, in matters before the Federal Service Impasses Panel, and to investigate representation petitions and conduct or supervise representation elections.

9. VA may disclose information to individuals, organizations, private or public agencies, or other entities with which VA has a contract or agreement, or where there is a subcontract to perform such services as VA may deem practicable for the purposes of laws administered by VA, in order for the contractor or subcontractor to perform the services of the contract or agreement.

10. VA may disclose information to labor unions operating at the facility level as members of institutional review boards, also known as accident review boards, to review root causes of injuries.

11. VA may disclose information to the Department of Labor for the electronic filing of workers compensation claims, as provided by 5 U.S.C. 8121.

12. VA may, on its own initiative, disclose any information or records to appropriate agencies, entities, and persons when (1) VA suspects or has confirmed that the integrity or confidentiality of information in the system of records has been compromised; (2) the Department has determined that as a result of the suspected or confirmed compromise there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm.

13. Disclosure to other Federal agencies may be made to assist such agencies in preventing and detecting possible fraud or abuse by individuals in their operations and programs.

POLICIES AND PRACTICES FOR STORING, RETRIEVING, ACCESSING, RETAINING, AND DISPOSING OF RECORDS IN THE SYSTEM:

STORAGE:

Records are maintained electronically on magnetic tape, disk, or laser optical media with copies of back-up computer files maintained at off-site locations in most cases.

RETRIEVABILITY:

Records are retrieved by name, Social Security number, or other assigned identifiers of the individuals on whom they are maintained.

SAFEGUARDS:

1. Access to VA working and storage areas is restricted to VA personnel on a “need-to-know” basis; strict control measures are enforced to ensure that disclosure to these individuals is also based on this same principle. Generally, VA file areas are locked after normal duty hours, and the facilities are protected from outside access by the Federal Protective Service or other security personnel.

2. Access to computer rooms at health care facilities is generally limited by appropriate locking devices and restricted to authorized VA employees and vendor personnel. Automated Data Processing (ADP) peripheral devices are placed in secure areas, which are locked, with limited access, or are otherwise protected. Records may be accessed by authorized VA employees, and access is controlled at two levels; the systems recognize authorized users by series of individually unique passwords/codes as a part of each data message, and access is limited to only those who need the information in the performance of their official duties. Information downloaded from ASISTS and maintained on personal computers is afforded similar storage and access protections as data maintained in the original files. Access to information stored on automated storage media at other VA locations is controlled by individually unique passwords/codes.

3. Access to information that populates workers' compensation claim forms submitted to DoL is accessible to only the employee filing the claim, his or her supervisor, and the workers' compensation personnel of the facility.

RETENTION AND DISPOSAL:

Records are maintained and disposed of in accordance with records disposition authority approved by the Archivist of the United States.

At the current time, VA does not have records disposition authority for these records that has been approved by the Archivist of the United States. The System Manager has initiated action to seek and obtain such disposition authority in accordance with VA Handbook 6300.1, Records Management Procedures. The records will not be destroyed until VA obtains a NARA-approved records disposition authority. Once VA has obtained NARA-approved records disposition authority, the agency will amend this notice to reflect that authority, and any destruction of electronic records will occur when no longer needed for administrative, legal, audit, or other operational purposes.

SYSTEM MANAGER(S) AND ADDRESS:

Official responsible for policies and procedures: Office of Public Health and Environmental Hazards (13), Department of Veterans Affairs, 810 Vermont Avenue, NW., Washington, DC 20420. Officials maintaining the system: Director at the facility where the employee was associated.

NOTIFICATION PROCEDURE:

Individuals seeking information on the existence and content of a record pertaining to them should contact the VA facility location at which they are or were employed, or performed work. Inquiries should include the person's full name, social security number, dates of employment or work, and return address.

RECORD ACCESS PROCEDURE:

(See Notification Procedure above.)

CONTESTING RECORD PROCEDURES:

(See Notification Procedure above.)

RECORD SOURCE CATEGORIES:

Information in this system of records is provided by employees, trainees, contractors, subcontractors, volunteers, and other affected individuals; supervisors; health and safety professionals at facilities; clinical personnel; workers' compensation personnel; and human resources staff.

[FR Doc. E9-7160 Filed 3-30-09; 8:45 am]

BILLING CODE